SMALL BUSINESS ADMINISTRATION

[Disaster Declaration #10515 and #10516]

Pennsylvania Disaster Number PA-00004

AGENCY: U.S. Small Business Administration.

ACTION: Amendment 3.

SUMMARY: This is an amendment of the Presidential declaration of a major disaster for the State of Pennsylvania (FEMA-1649-DR), dated July 4, 2006.

Incident: Severe Storms, Flooding, and Mudslides.

Incident Period: June 23, 2006 and continuing.

Effective Date: July 7, 2006.

Physical Loan Application Deadline Date: September 5, 2006.

EIDL Loan Application Deadline Date: April 4, 2007.

ADDRESSES: Submit completed loan applications to: U.S. Small Business Administration, National Processing and Disbursement Center,14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Pennsylvania, dated July 4, 2006 is hereby amended to include the following areas as adversely affected by the disaster:

Primary Counties:

Dauphin, Lackawanna, Lancaster, Lebanon, Montour, Northumberland.

Contiguous Counties:

Pennsylvania: Snyder, Union, York.

Maryland: Harford.

All other information in the original declaration remains unchanged.

(Catalog of Federal Domestic Assistance Number 59002 and 59008.)

Herbert L. Mitchell,
Associate Administrator for Disaster Assistance.

[FR Doc. E6-11314 Filed 7-17-06; 8:45 am]

BILLING CODE 8025-01-P